DEPARTMENT OF ENERGY

Federal Energy Regulatory Commission

Combined Notice of Filings No. 1

September 07, 2010.

Take notice that the Commission has received the following Natural Gas Pipeline Rate and Refund Report filings:

Docket Numbers: RP10-1258-000.

Applicants: Central New York Oil And Gas, LLC.

Description: Central New York Oil and Gas Company, LLC submits Third Revised Sheet 103A et al. to FERC Gas Tariff, Version 1.9 of the Wholesale Gas Quadrant of the North American Energy Standards Board pursuant to Order 587-U.

Filed Date: 09/01/2010.

Accession Number: 20100902-0211.

Comment Date: 5 p.m. Eastern Time on Monday, September 13, 2010.

Docket Numbers: RP10-1259-000.

Applicants: Total Peaking Services, LLC.

Description: Total Peaking Services, LLC submits Third Revised Sheet 85 superseding Second Revised Sheet 85 et al. to its FERC Gas Tariff, Original Volume 1.

Filed Date: 09/01/2010.

Accession Number: 20100902-0212.

Comment Date: 5 p.m. Eastern Time on Monday, September 13, 2010.

Docket Numbers: RP10-1260-000.

Applicants: Arlington Storage Company, LLC.

Description: Arlington Storage Company, LLC submits its compliance filing incorporate into its FERC Gas Tariff, Version 1.9 of the Wholesale Gas Quadrant of the North American Energy Standards Board pursuant to Order 587-U.

Filed Date: 09/01/2010.

Accession Number: 20100902-0213.

Comment Date: 5 p.m. Eastern Time on Monday, September 13, 2010.

Docket Numbers: RP10-1261-000.

Applicants: Steuben Gas Storage Company.

Description: Steuben Gas Storage Company, LLC submits Twelfth Revised Sheet No. 154 et al. effective 10/1/10.

Filed Date: 09/01/2010.

Accession Number: 20100902-0202.

Comment Date: 5 p.m. Eastern Time on Monday, September 13, 2010.

Docket Numbers: RP10-1262-000.

Applicants: Dauphin Island Gathering Partners.

Description: Dauphin Island Gathering Partners submits Third Revised Sheet No. 161 et al. to FERC Gas Tariff, First Revised Volume No. 1.

Filed Date: 09/01/2010.

Accession Number: 20100902-0210.

Comment Date: 5 p.m. Eastern Time on Monday, September 13, 2010.

Docket Numbers: RP10-1263-000.

Applicants: WTG Hugoton, LP.

Description: WTG Hugoton, LP submits Second Revised Sheet 205 et al. to FERC Gas Tariff, Original Volume No. 1, to be effective 11/1/10.

Filed Date: 09/01/2010.

Accession Number: 20100902-0209.

Comment Date: 5 p.m. Eastern Time on Monday, September 13, 2010.

Docket Numbers: RP10-1264-000.

Applicants: Western Gas Interstate Company.

Description: Western Gas Interstate Company submits Eighth Revised Sheet 247 of its FERC Gas Tariff, effective 11/1/10.

Filed Date: 09/01/2010.

Accession Number: 20100902-0208.

Comment Date: 5 p.m. Eastern Time on Monday, September 13, 2010.

Docket Numbers: RP10-1265-000.

Applicants: Freebird Gas Storage, LLC.

Description: Freebird Gas Storage, LLC submits Second Revised Sheet No. 146 et al. to its FERC Gas Tariff, First Revised Volume No. 1, to be effective 11/1/10.

Filed Date: 09/01/2010.

Accession Number: 20100902-0206.

Comment Date: 5 p.m. Eastern Time on Monday, September 13, 2010.

Docket Numbers: RP10-1266-000.

Applicants: Caledonia Energy Partners, LLC.

Description: Caledonia Energy Partners, LLC submits Second Revised Sheet No. 55 et al. to its FERC Gas Tariff, Original Volume No. 1, to be effective 11/1/10.

Filed Date: 09/01/2010.

Accession Number: 20100902-0205.

Comment Date: 5 p.m. Eastern Time on Monday, September 13, 2010.

Docket Numbers: RP10-1267-000.

Applicants: Energy West Development, Inc.

Description: Energy West Development, Inc. submits Fifth Revised Sheet No. 29 et al. to FERC Gas Tariff, Volume No. 1, to be effective 11/1/10.

Filed Date: 09/01/2010.

Accession Number: 20100902-0204.

Comment Date: 5 p.m. Eastern Time on Monday, September 13, 2010.

Docket Numbers: RP10-1268-000.

Applicants: American Midstream (Midla), LLC.

Description: American Midstream (Midla), LLC submits First Revised Original Sheet 111 et al. to FERC Gas Tariff, Sixth Revised Volume 1, to be effective 11/1/10.

Filed Date: 09/01/2010.

Accession Number: 20100902-0207.

Comment Date: 5 p.m. Eastern Time on Monday, September 13, 2010.

Docket Numbers: RP10-1269-000.

Applicants: American Midstream (AlaTenn), LLC.

Description: American Midstream (AlaTenn), LLC submits First Revised Original Sheet 110 et al. to FERC Gas Tariff, First Revised Volume 1, effective 11/1/10.

Filed Date: 09/01/2010.

Accession Number: 20100902-0203.

Comment Date: 5 p.m. Eastern Time on Monday, September 13, 2010.

Docket Numbers: RP10-1270-000.

Applicants: Bobcat Gas Storage.

Description: Bobcat Gas Storage submits Second Revised Sheet No. 115 et al. to its FERC Gas Tariff, Original Volume No. 1, to be effective 11/1/10.

Filed Date: 09/01/2010.

Accession Number: 20100902-0201.

Comment Date: 5 p.m. Eastern Time on Monday, September 13, 2010.

Docket Numbers: RP10-1271-000.

Applicants: Texas Eastern Transmission, LP.

Description: Texas Eastern Transmission, LP submits its 2010 Operational Segment Capacity Entitlements Report.

Filed Date: 09/01/2010.

Accession Number: 20100901-5239.

Comment Date: 5 p.m. Eastern Time on Monday, September 13, 2010.

Docket Numbers: RP10-1272-000.

Applicants: ANR Pipeline Company.

Description: ANR Pipeline Company submits Eighth Revised Sheet 108 et al. to reflect implementation of certain NAESB Version 1.9 Standards in compliance with FERC Order 587-U.

Filed Date: 09/01/2010.

Accession Number: 20100902-0231.

Comment Date: 5 p.m. Eastern Time on Monday, September 13, 2010.

Docket Numbers: RP10-1273-000.

Applicants: Columbia Gas Transmission, LLC.

Description: Columbia Gas Transmission, LLC submits tariff filing per 154.204: Non-Conforming—Statoil and Chesapeake to be effective 10/1/2010.

Filed Date: 09/02/2010.

Accession Number: 20100902-5132.

Comment Date: 5 p.m. Eastern Time on Tuesday, September 14, 2010.

Docket Numbers: RP10-1274-000.

Applicants: MIGC LLC.

Description: MIGC LLC submits tariff filing per 154.203: MIGC LLC NAESB V1.9 Compliance Filing to be effective 11/1/2010.

Filed Date: 09/02/2010.

Accession Number: 20100902-5133.

Comment Date: 5 p.m. Eastern Time on Tuesday, September 14, 2010.

Docket Numbers: RP10-1275-000.

Applicants: Puget Sound Energy.

Description: Puget Sound Energy submits tariff filing per 154.202: Jackson Prairie gas storage project agreement to be effective 9/3/2010.

Filed Date: 09/03/2010.

Accession Number: 20100903-5000.

Comment Date: 5 p.m. Eastern Time on Wednesday, September 15, 2010.

Docket Numbers: RP10-1276-000.

Applicants: Cheniere Creole Trail Pipeline, L.P.

Description: Cheniere Creole Trail Pipeline, L.P. submits a Request for Waiver.

Filed Date: 09/01/2010.

Accession Number: 20100901-5251.

Comment Date: 5 p.m. Eastern Time on Monday, September 13, 2010.

Docket Numbers: RP10-1278-000.

Applicants: American Midstream (AlaTenn), LLC

Description: American Midstream (AlaTenn), LLC submits tariff filing per 154.203: American Midstream (AlaTenn), LLC—Baseline eTariff Filing to be effective 9/3/2010 .

Filed Date: 09/03/2010.

Accession Number: 20100903-5026.

Comment Date: 5 p.m. Eastern Time on Wednesday, September 15, 2010.

Docket Numbers: RP10-1279-000.

Applicants: American Midstream (Midla), LLC.

Description: American Midstream (Midla), LLC submits tariff filing per 154.203: American Midstream (Midla), LLC—Baseline eTariff Filing to be effective 9/3/2010.

Filed Date: 09/03/2010.

Accession Number: 20100903-5027.

Comment Date: 5 p.m. Eastern Time on Wednesday, September 15, 2010.

Docket Numbers: RP10-1280-000.

Applicants: Venice Gathering System, LLC.

Description: Report of Venice Gathering System, L.L.C.

Filed Date: 09/03/2010.

Accession Number: 20100903-5115.

Comment Date: 5 p.m. Eastern Time on Wednesday, September 15, 2010.

Docket Numbers: RP10-1281-000.

Applicants: Algonquin Gas Transmission, LLC.

Description: Algonquin Gas Transmission, LLC submits a Negotiated Rate Agreement to FERC Gas Tariff, Sixth Revised Volume No. 1, to be effective 9/1/2010.

Filed Date: 09/07/2010.

Accession Number: 20100907-5030.

Comment Date: 5 p.m. Eastern Time on Monday, September 20, 2010.

Docket Numbers: RP10-1282-000.

Applicants: Algonquin Gas Transmission, LLC.

Description: Algonquin Gas Transmission, LLC submits tariff filing per 154.204: Negotiated Rate Agreement 9-1-2010—Merrill Lynch to be effective 9/1/2010.

Filed Date: 09/07/2010.

Accession Number: 20100907-5056.

Comment Date: 5 p.m. Eastern Time on Monday, September 20, 2010.

Docket Numbers: CP10-490-000.

Applicants: Texas Eastern Transmission, LP and Texas Gas Transmission.

Description: Joint Abbreviated Application of Texas Eastern Transmission, LP and Texas Gas Transmission authorization to abandon leased capacity and to reacquire the capacity.

Filed Date: 08/23/2010.

Accession Number: 20100823-5170.

Comment Date: 5 p.m. Eastern Time on Tuesday, September 14, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-26852 Filed 10-22-10; 8:45 am]

BILLING CODE P